ENVIRONMENTAL PROTECTION AGENCY

[ER-FRL-9029-9]

Environmental Impact Statements; Notice of Availability

Responsible Agency: Office of Federal Activities, General Information (202) 564-7146 or http://www.epa.gov/nepa.

Weekly receipt of Environmental Impact Statements (EISs) Filed 10/24/2016 Through 10/28/2016

Pursuant to 40 CFR 1506.9

Notice

Section 309(a) of the Clean Air Act requires that EPA make public its comments on EISs issued by other Federal agencies. EPA's comment letters on EISs are available at: http://www.epa.gov/compliance/nepa/eisdata.html.

EIS No. 20160255, Draft, NPS, ND, Knife River Indian Villages National Historic Site Archeological Resources Management Plan, Comment Period Ends: 01/03/2017, Contact: James Lange 402-661-1900

EIS No. 20160256, Draft Supplement, USACE, MO, Mississippi River between the Ohio and Missouri Rivers (Regulating Works), Comment Period Ends: 12/19/2016, Contact: Kip Runyon 314-331-8396

EIS No. 20160257, Final, Caltrans, CA, State Route 79 Realignment Project: Domenigoni Parkway to Gilman Springs Road, Review Period Ends: 12/05/2016, Contact: Aaron P. Burton 909-383-2841

EIS No. 20160258, Final, NRC, FL, Combine Licenses (COLs) for Turkey Point Nuclear Plant Units 6 and 7, Review Period Ends: 12/05/2016, Contact: Alicia Williamson Dickerson 301-415-1878

EIS No. 20160259, Draft, USFS, CO, Upper Monument Creek Landscape Restoration, Comment Period Ends: 12/19/2016, Contact: Carin Vadala 719-636-1602

EIS No. 20160260, Draft, USACE, ND, Mouse River Enhanced Flood Protection Project, Comment Period Ends: 12/22/2016, Contact: Derek Ingvalson 651-290-5252

Dated: November 1, 2016.
Karin Leff,
Acting Director, NEPA Compliance Division, Office of Federal Activities.

[FR Doc. 2016-26734 Filed 11-3-16; 8:45 am]

BILLING CODE 6560-50-P